DEPARTMENT OF JUSTICE

Antitrust Division

Notice Pursuant to the National Cooperative Research and Production Act of 1993—Green Building Certification Institute

Notice is hereby given that, on March 27, 2008, pursuant to Section 6(a) of the National Cooperative Research and Production Act of 1993, 15 U.S.C. 4301 et seq. (“the Act”), Green Building Certification Institute (“GBCI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization: Green Building Certification Institute, Washington, DC. The nature and scope of GBCI's standards development activities are: The development of consensus standards for competency in measuring and increasing the environmental efficiency of buildings and communities.

Patricia A. Brink,
Deputy Director of Operations, Antitrust Division.

[FR Doc. E8-10147 Filed 5-8-08; 8:45 am]

BILLING CODE 4410-11-M